COMMISSION ON CIVIL RIGHTS

Public Meeting of the Michigan Advisory Committee; Preparations for a Public Hearing Regarding the Civil Rights Impact of Civil Forfeiture Practices in the State

AGENCY: U.S. Commission on Civil Rights.

ACTION: Announcement of meeting.

SUMMARY: Notice is hereby given, pursuant to the provisions of the rules and regulations of the U.S. Commission on Civil Rights (Commission) and the Federal Advisory Committee Act that the Michigan Advisory Committee (Committee) will hold a meeting on Tuesday, March 8, 2016, at 10:00 a.m. EST for the purpose of discussing preparations for a public hearing regarding the civil rights impact of civil asset forfeiture in the State.

DATES: The meeting will be held on Tuesday, March 8, 2016, at 10:00 a.m. EST.

ADDRESSES: This meeting is available to the public through the following toll-free call-in number: 888-539-3696, conference ID: 4625695. Any interested member of the public may call this number and listen to the meeting. An open comment period will be provided to allow members of the public to make a statement at the end of the meeting. The conference call operator will ask callers to identify themselves, the organization they are affiliated with (if any), and an email address prior to placing callers into the conference room. Callers can expect to incur regular charges for calls they initiate over wireless lines according to their wireless plan, and the Commission will not refund any incurred charges. Callers will incur no charge for calls they initiate over land-line connections to the toll-free telephone number. Persons with hearing impairments may also follow the proceedings by first calling the Federal Relay Service at 1-800-977-8339 and providing the Service with the conference call number and conference ID number.

FOR FURTHER INFORMATION CONTACT: Melissa Wojnaroski at mwojnaroski@usccr.gov or 312-353-8311.

SUPPLEMENTARY INFORMATION: Records and documents discussed during the meeting will be available for public viewing prior to and after the meeting at http://facadatabase.gov/committee/meetings.aspx?cid=255. Click on the “Meeting Details” and “Documents” links to download. Records generated from this meeting may also be inspected and reproduced at the Regional Programs Unit, as they become available, both before and after the meeting. Persons interested in the work of this Committee are directed to the Commission's Web site, http://www.usccr.gov, or may contact the Regional Programs Unit at the above email or street address.

Agenda

Welcome and Introductions

Donna Budnick, Chair

Preparatory Discussion for Public Hearing

Civil Rights Impact of Civil Forfeiture Practices in Michigan

Future plans and actions

Open Comment

Adjournment

Public Call Information:

Dial: 888-539-3696

Conference ID: 4625695

Dated: February 12, 2016.
David Mussatt,
Chief, Regional Programs Unit.

[FR Doc. 2016-03438 Filed 2-18-16; 8:45 am]

BILLING CODE 6335-01-P